DEPARTMENT OF TRANSPORTATION

Coast Guard

33 CFR Part 167

[USCG-2002-12876]

Port Access Routes Study; In the Approaches to Chesapeake Bay, VA

AGENCY: Coast Guard, DOT.

ACTION: Notice of study; request for comments.

SUMMARY: The Coast Guard is conducting a Port Access Routes Study (PARS) to evaluate the continued applicability of and the need for modifications to current vessel routing measures or the creation of new vessel routing measures in the approaches to Chesapeake Bay, Virginia. The goal of the study is to help reduce the risk of marine casualties and increase vessel traffic management efficiency in the study area. The recommendations of the study may lead to future rulemaking action or appropriate international agreements.

DATES: Comments and related material must reach the Docket Management Facility on or before September 24, 2002.

ADDRESSES: To make sure that your comments and related material are not entered more than once in the docket, please submit them by only one of the following means:

(1) By mail to the Docket Management Facility (USCG-2002-12876), U.S. Department of Transportation, Room PL-401, 400 Seventh Street SW., Washington, DC 20590-0001.

(2) By delivery to Room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this document. Comments and material received from the public, as well as documents mentioned in this preamble as being available in the docket, will become part of this docket and will be available for inspection or copying at Room PL-401 on the Plaza level of the Nassif Building, 400 Seventh Street SW., Washington, DC, between 9 a.m. and 5 p.m., Monday through Friday, except Federal holidays. You may also find this docket on the Internet at http://dms.dot.gov.

FOR FURTHER INFORMATION CONTACT: If you have questions on this notice of study, call Lieutenant Junior Grade Anne Grabins, Project Officer, Aids to Navigation and Waterways Management Branch, Fifth Coast Guard District, telephone 757-398-6559, e-mail Agrabins@lantd5.uscg.mil; or George Detweiler, Office of Vessel Traffic Management, Coast Guard, telephone 202-267-0574, e-mail Gdetweiler@comdt.uscg.mil. If you have questions on viewing or submitting material to the docket, call Dorothy Beard, Chief, Dockets, Department of Transportation, telephone 202-366-5149.

SUPPLEMENTARY INFORMATION:

Request for Comments

We encourage you to participate in this study by submitting comments and related material. If you do so, please include your name and address, identify the docket number for this notice of study (USCG-2002-12876), indicate the specific section of this document to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know that they reached the Facility, please enclose a stamped, self-addressed postcard or envelope. We will consider all comments and material received during the comment period.

Public Meeting

We do not now plan to hold a public meeting. But you may submit a request for one to the Docket Management Facility at the address under ADDRESSES explaining why one would be beneficial. If we determine that one would aid this study, we will hold one at a time and place to be announced by a later notice in the Federal Register.

Definitions

The following definitions are of terms we may use during the Port Access Routes Study (PARS). We include them here for those who are unfamiliar with these terms and their abbreviations.

Area to be avoided (ATBA) means a routing measure comprising an area within defined limits in which either navigation is particularly hazardous or it is exceptionally important to avoid casualties and which should be avoided by all ships, or certain classes of ships.

Deep-water route is a route within defined limits, which has been accurately surveyed for clearance of sea bottom and submerged obstacles as indicated on nautical charts.

Inshore traffic zone is a routing measure comprising a designated area between the landward boundary of a traffic separation scheme and the adjacent coast, to be used in accordance with the provisions of Rule 10(d), as amended, of the International Regulations for Preventing Collisions at Sea, 1972 (COLREGS).

Precautionary area means a routing measure comprising an area within defined limits where ships must navigate with particular caution and within which the direction of traffic flow may be recommended.

Recommended route means a route of undefined width, for the convenience of ships in transit, which is often marked by centerline buoys.

Recommended track is a route which has been specifically examined to ensure so far as possible that it is free of dangers and along which ships are advised to navigate.

Regulated navigation area (RNA) is a water area within a defined boundary for which regulations for vessels navigating within the area have been established under 33 CFR part 165.

Roundabout is a routing measure comprising a separation point or circular separation zone and a circular traffic lane within defined limits. Traffic within the roundabout is separated by moving in a counterclockwise direction around the separation point or zone.

Separation zone or separation line means a zone or line separating the traffic lanes in which ships are proceeding in opposite or nearly opposite directions; or from the adjacent sea area; or separating traffic lanes designated for particular classes of ships proceeding in the same direction.

Traffic lane means an area within defined limits in which one-way traffic is established. Natural obstacles, including those forming separation zones, may constitute a boundary.

Traffic separation scheme (TSS) means a routing measure aimed at the separation of opposing streams of traffic by appropriate means and by the establishment of traffic lanes.

Two-way route is a route within defined limits inside which two-way traffic is established, aimed at providing safe passage of ships through waters where navigation is difficult or dangerous.

Vessel routing system means any system of one or more routes or routing measures aimed at reducing the risk of casualties; it includes traffic separation schemes, two-way routes, recommended tracks, areas to be avoided, inshore traffic zones, roundabouts, precautionary areas, and deep-water routes.

Background and Purpose

Port Access Route Study Requirements. Under the Ports and Waterways Safety Act (PWSA)(33 U.S.C. 1223(c)), the Secretary of Transportation may designate necessary fairways and TSS's to provide safe access routes for vessels proceeding to and from U.S. ports. The Secretary's authority to make these designations was delegated to the Commandant, U.S. Coast Guard, in title 49 of the Code of Federal Regulations, 49 CFR 1.46. The designation of fairways and TSS's recognizes the paramount right of navigation over all other uses in the designated areas.

The PWSA requires the Coast Guard to conduct a study of port access routes before establishing or adjusting fairways or TSS's. Through the study process, we must coordinate with Federal, State, and foreign state agencies (as appropriate) and consider the views of maritime community representatives, environmental groups, and other interested stakeholders. A primary purpose of this coordination is, to the extent practicable, to reconcile the need for safe access routes with other reasonable waterway uses.

Port access route study. The approaches to the Chesapeake Bay, VA, were last studied in 1989, and the final results were published in the Federal Register on July 13, 1989 (54 FR 29627). The study primarily examined the Southern Approach to Chesapeake Bay to accommodate vessels requiring a deep-water route. The PARS concluded that the existing Eastern Approach and Precautionary Area should remain unchanged, and it proposed the creation of the current deep-water route of the Southern Approach. A final rule, entitled “Traffic Separation Scheme; In The Approaches to Cheasapeake Bay” was published April 28, 1994 (59 FR 21935).

Why is a new port access route study necessary? Recent National Oceanic and Atmospheric Administration (NOAA) hydrographic data from a survey conducted April 12-17, 2001, indicate that Nautilus Shoal, bordering the northern edge of the Eastern Approach to Chesapeake Bay, is slowly moving southward and is encroaching the inbound traffic lane, which is limiting the use of this traffic lane to those vessels with drafts less than 27 feet (8.2 meters). This slow, continuous southward movement of Nautilus Shoal has spawned the need to evaluate the current location of the Eastern Approach and to determine if there is a different location that will better accommodate vessels that use this route to access Chesapeake Bay.

Based on potential changes to the Eastern Approach, it requires us to also study the Southern Approach to Chesapeake Bay. Therefore, we will study all the data concerning vessel movements in the Southern Approach to determine if modifications are needed for this approach as well.

Timeline, study area, and process of this PARS. The Fifth Coast Guard District will conduct this PARS to determine the need to modify existing routing measures and the effects of potential modifications in the study area. The study will begin immediately and we anticipate the study will take 6 to 12 months to complete.

The study area will encompass the area bounded by a line connecting the following geographic points (All coordinates are NAD 1983):

Latitude | Longitude
37°00.00′ N | 075°56.00′ W
37°00.00′ N | 075°40.00′ W
36°45.00′ N | 075°40.00′ W
36°45.00′ N | 075°56.00′ W

The study area encompasses the Eastern and Southern approaches to Chesapeake Bay used by commercial and public vessels.

As part of this study, we will consider previous studies, analyses of vessel traffic density, and agency and stakeholder experience in vessel traffic management, navigation, ship handling, and affects of weather. We encourage you to participate in the study process by submitting comments in response to this notice.

We will publish the results of the PARS in the Federal Register. It is possible that the study may validate continued applicability of existing vessel routing measures and conclude that no changes are necessary. It is also possible that the study may recommend one or more changes to enhance navigational safety and vessel traffic management efficiency. Study recommendations may lead to future rulemakings or appropriate international agreements.

Potential Study Recommendations

We are attempting to determine the scope of any safety problems associated with vessel transits in the study area. We expect that information gathered during the study will identify any problems and appropriate solutions. The study may recommend that we—

• Maintain the current vessel routing measures;

• Disestablish the Eastern Approach TSS;

• Relocate the Eastern Approach TSS to the south of its current location;

• Modify the Southern Approach as necessary;

• Establish an Area to Be Avoided (ATBA) in shallow areas where the risk of grounding is present;

• Disestablish Chesapeake Light; and

• Replace Chesapeake Light with a lighted buoy or a smaller structure.

Questions

To help us conduct the port access route study, we request comments on the following questions, although comments on other issues addressed in this document are also welcome. In responding to a question, please explain your reasons for each answer, and follow the instructions under Request for Comments above.

1. What navigational hazards do vessels operating in the study area face? Please describe.

2. Are there strains on the current vessel routing system (increasing traffic density, for example)? If so, please describe.

3. Are modifications to existing vessel routing measures needed to address hazards and strains and improve traffic management efficiency in the study area? Why or why not? If so, what measures should the study of port access routes address for potential implementation?

4. What costs and benefits are associated with the measures listed as potential study recommendations? What measures do you think are most cost-effective?

5. What impacts, both positive and negative, would changes to existing routing measures or new routing measures have on the study area?

Dated: July 16, 2002.
Joseph J. Angelo,
Director of Standards, Marine Safety, Security & Environmental Protection

[FR Doc. 02-18914 Filed 7-25-02; 8:45 am]

BILLING CODE 4910-15-P